DEPARTMENT OF COMMERCE

Foreign-Trade Zones Board

[B-28-2020]

Foreign-Trade Zone 116—Port Arthur, Texas; Application for Subzone, Golden Pass LNG Terminal LLC, Port Arthur, Texas

An application has been submitted to the Foreign-Trade Zones (FTZ) Board by the Foreign-Trade Zone of Southeast Texas, Inc., grantee of FTZ 116, requesting subzone status for the facility of Golden Pass LNG Terminal LLC located in Port Arthur, Texas. The application was submitted pursuant to the provisions of the Foreign-Trade Zones Act, as amended (19 U.S.C. 81a-81u), and the regulations of the FTZ Board (15 CFR part 400). It was formally docketed on May 11, 2020.

The proposed subzone (1,186.4 acres) is located at 3752 South Gulfway Drive in Port Arthur, Texas. A notification of proposed production activity has been submitted and is being processed under 15 CFR 400.37 (Doc. B-26-2020).

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is June 23, 2020. Rebuttal comments in response to material submitted during the foregoing period may be submitted during the subsequent 15-day period to July 8, 2020.

A copy of the application will be available for public inspection in the “Reading Room” section of the FTZ Board's website, which is accessible via www.trade.gov/ftz.

For further information, contact Camille Evans at Camille.Evans@trade.gov or (202) 482-2350.

Dated: May 11, 2020.
Andrew McGilvray,
Executive Secretary.

[FR Doc. 2020-10348 Filed 5-13-20; 8:45 am]

BILLING CODE 3510-DS-P